DEPARTMENT OF TRANSPORTATION

Federal Aviation Administration

14 CFR Part 121

[Docket No.: FAA-2006-24277; Notice No. 06-05]

RIN 2120-AI75

Fire Penetration Resistance of Thermal Acoustic Insulation Installed on Transport Category Airplanes

AGENCY: Federal Aviation Administration (FAA), DOT.

ACTION: Notice of proposed rulemaking; Correction.

SUMMARY: This document makes a correction to the Notice of Proposed Rulemaking (NPRM) published in the Federal Register on April 3, 2006 by changing the amendment number to a notice number. The NPRM proposed to extend, by 12 months, the date for operators to comply with the fire penetration resistance requirements of thermal/acoustic insulation used in transport category airplanes manufactured after September 2, 2007.

FOR FURTHER INFORMATION CONTACT: Jeff Gardlin, FAA, Airframe and Cabin Safety Branch, ANM-115, Transport Airplane Directorate, Aircraft Certification Service, 1601 Lind Avenue SW., Renton, Washington 98055-4056; telephone (425) 227-2136, facsimile (425) 227-1149, e-mail: jeff.gardlin@faa.gov.

Correction

In the Notice of Proposed Rulemaking FR Doc. E6-4791, published on April 3, 2006 (71 FR 16678), make the following correction:

1. On page 16678, in column 1 in the heading section, beginning on line 4, remove “Amendment No. 121-323” and insert “Notice No. 06-05”.

Issued in Washington, DC, on April 6, 2006.
Ida M. Klepper,
Acting Director, Office of Rulemaking.

[FR Doc. E6-5330 Filed 4-10-06; 8:45 am]

BILLING CODE 4910-13-P